DEPARTMENT OF THE TREASURY

Open Meeting of the Federal Advisory Committee on Insurance

AGENCY: Departmental Offices, U.S. Department of the Treasury.

ACTION: Notice of open meeting, correction.

SUMMARY: This notice provides updated videoconference links for the U.S. Department of the Treasury's Federal Advisory Committee on Insurance (FACI) meeting on Thursday, September 9, 2021 from 11:00 a.m.-1:00 p.m. Eastern Time. The meeting is open to the public.

DATES: The meeting will be held via videoconference on Thursday, September 9, 2021, from 11:00 a.m.-1:00 p.m. Eastern Time.

FOR FURTHER INFORMATION CONTACT: Jigar Gandhi, Senior Insurance Regulatory Policy Analyst, Federal Insurance Office, U.S. Department of the Treasury, 1500 Pennsylvania Ave. NW, Room 1410 MT, Washington, DC 20220, at (202) 622-3220 (this is not a toll-free number). Persons who have difficulty hearing or speaking may access this number via TTY by calling the toll-free Federal Relay Service at (800) 877-8339.

SUPPLEMENTARY INFORMATION: In a notice in the Federal Register on August 11, 2021 (86 FR 44139), the Department announced the September 9, 2021 videoconference meeting of the FACI. That notice inadvertently included inoperable hyperlinks that are corrected by this notice.

The meeting will be held via videoconference and is open to the public. The public can attend remotely here: http://www.yorkcast.com/treasury/events/2021/09/09/faci. The webcast will also be available through the FACI's website: https://home.treasury.gov/policy-issues/financial-markets-financial-institutions-and-fiscal-service/federal-insurance-office/federal-advisory-committee-on-insurance-faci. For more details about the meeting, see the August 11, 2021 notice.

Dated: August 16, 2021.
Steven Seitz,
Director, Federal Insurance Office.

[FR Doc. 2021-17774 Filed 8-18-21; 8:45 am]

BILLING CODE 4810-AK-P